SECURITIES AND EXCHANGE COMMISSION

[Release No. 34-44157; File No. 4-441]

Roundtable on Regulation FD

AGENCY: Securities and Exchange Commission.

ACTION: Notice of roundtable meeting.

SUMMARY: On April 24, 2001, the Securities and Exchange Commission will host a roundtable to discuss Regulation FD (Fair Disclosure). The roundtable will be moderated by Acting Chairman Laura S. Unger. It will bring together issuers, media and information disseminators, securities analysts, investors, and securities lawyers to discuss initial experience under Regulation FD.

The roundtable will take place at the Alexander Hamilton U.S. Customs House (Auditorium), 1 Bowling Green, New York, NY, form 10 a.m. to 5 p.m. The public is invited to observe the roundtable discussions. Seating is available on a first-come, first-served basis. The agenda for the roundtable will be posted on the Commission's Internet website (http://www.sec.gov).

FOR FURTHER INFORMATION CONTACT: Sharon Zamore or Jacob Lesser, Office of the General Counsel, at (202) 942-0890.

Dated: April 6, 2001.
Jonathan G. Katz,
Secretary.

[FR Doc. 01-9109 Filed 4-12-01; 8:45 am]

BILLING CODE 8010-01-M